DEPARTMENT OF HEALTH AND HUMAN SERVICES

National Institutes of Health

National Toxicology Program (NTP) Final Process for Preparation of the Report on Carcinogens (RoC)

AGENCY: Division of the National Toxicology Program (DNTP), National Institute of Environmental Health Sciences (NIEHS), National Institutes of Health (NIH), HHS.

ACTION: Notice.

SUMMARY: The NTP announces the final process for preparation of the RoC. The process is available on the NTP Web site (http://ntp.niehs.nih.gov/go/rocprocess) or by contacting Dr. Ruth Lunn (see ADDRESSES).

ADDRESSES: Dr. Ruth Lunn, Director, Office of the Report on Carcinogens, DNTP, NIEHS, P.O. Box 12233 MD K2-14, Research Triangle Park, NC 27709; telephone: (919) 316-4637 or email: lunn@niehs.nih.gov. Courier address: NIEHS, Room 2138, 530 Davis Drive, Morrisville, NC 27560.

FOR FURTHER INFORMATION CONTACT: Dr. Ruth Lunn (see ADDRESSES).

SUPPLEMENTARY INFORMATION:

Background Information on the Process

On October 31, 2011, the NTP released its proposed process for preparation of the RoC (76 FR 67200 and 76 FR 71037) and invited written public comment. The NTP also held a listening session on November 29, 2011, to receive oral comment on the proposed process. The NTP considered all input, made some revisions, and presented a revised process at the NTP Board of Scientific Counselors public meeting (76 FR 68461) on December 15, 2011 (http://ntp.niehs.nih.gov/go/9741). The NTP now announces the final process for preparation of the RoC. The RoC process is available on the NTP Web site (http://ntp.niehs.nih.gov/go/rocprocess) or by contacting Dr. Lunn (see ADDRESSES).

Background Information on the RoC

The RoC is a science-based, public health document, required by Congress to be published every two years (Public Health Services Act sec. 301(b)(4), 42 U.S.C. 241(b)(4)). It identifies agents, substances, mixtures, and exposure circumstances (hereafter referred to as “substances”) in our environment that may potentially put people in the United States at increased risk for cancer. Each edition of the report is cumulative and includes newly listed substances in addition to those listed in previous editions (for more information see http://ntp.niehs.nih.gov/go/roc). Substances are listed in the report as either known or reasonably anticipated human carcinogens. The NTP prepares the RoC on behalf of the Secretary of Health and Human Services. The 12th RoC was published in June 2011 (http://ntp.niehs.nih.gov/go/roc12).

Dated: December 21, 2011.
John R. Bucher,
Associate Director, National Toxicology Program.

[FR Doc. 2012-395 Filed 1-10-12; 8:45 am]

BILLING CODE 4140-01-P